SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before April 28, 2014.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: To obtain the information needed to carry out its program evaluation and oversight responsibilities. SBA requires small business investment companies (SBIC'S) to provide information on SBA Form 1031 each time financing is extended to a small business concern. SBA uses this information to evaluate how SBIC'S fill market financing gaps and contribute to economic growth, and to monitor the regulatory compliance of individual SBIC'S.

Summary of Information Collections

(1) Title: Portfolio Financing Report.

Description of Respondents: Small Business Investment Companies.

Form Number: 1031.

Estimated Annual Responses: 2,800.

Estimated Annual Hour Burden: 560.

Curtis B. Rich,
Management Analyst.

[FR Doc. 2014-06794 Filed 3-26-14; 8:45 am]

BILLING CODE 8025-01-P